DEPARTMENT OF HEALTH AND HUMAN SERVICES

Centers for Disease Control and Prevention (CDC)

The Advisory Committee to the Director, National Center for Environmental Health (NCEH), Centers for Disease Control and Prevention (CDC); Meeting.

In accordance with section 10(a)(2) of the Federal Advisory Committee Act (Pub.L. 92-463), the Centers for Disease Control and Prevention (CDC) announces the following committee meeting:

Name: Advisory Committee to the Director, NCEH.

Times and Dates: 9 am-5 pm (EST), November 20, 2000; 9 am-12 pm (EST), November 21, 2000.

Place: Swissotel, 3391 Peachtree Road, NE, Atlanta, GA 30326.

Status: Open to the public for observation and comment, limited only by the space available. The meeting room accommodates approximately 45 people.

Purpose: The Secretary, and by delegation, the Director, Centers for Disease Control and Prevention, are authorized under Section 301(42 U.S.C. 241) and Section 311(42 U.S.C. 243) of the Public Health Service Act, as amended, to (1) conduct, encourage, cooperate with, and assist other appropriate public authorities, scientific institutions, and scientists in the conduct of research, investigations, experiments, demonstrations, and studies relating to the causes, diagnosis, treatment, control, and prevention of physical and mental diseases, and other impairments; (2) assist States and their political subdivisions in the prevention of infectious diseases and other preventable conditions, and in the promotion of health and well being; and (3) train State and local personnel in health work. The purpose of this meeting is to provide advice on: (1) Environmental public health problems that potentially pose the greatest risks to human health and may not be receiving adequate attention; (2) the primary prevention of birth defects and developmental and other disabilities; (3) the prevention of secondary conditions in persons with a primary disability; and (4) the research agenda needed to improve the science base relative to human health effects and environmental exposures, and that will ultimately provide sound human health data for policy and decision-making.

Matters to be Discussed: Agenda items will include implications of the Child Health Bill, the National Exposure Report, the Genetics Assessment Testing Program, and on a shared vision of environmental health between NCEH and the Agency for Toxic Substances and Disease Registry (ATSDR) at CDC.

Agenda items are tentative and subject to change as priorities dictate.

Contact Person for more Information: Michael J. Sage, Designated Federal Official, CDC, 4770 Buford Highway, NE, MS F-29, Atlanta, Georgia 30341-3724; telephone 770-488-7020, fax 770-488-7024; e-mail: mjs6@cdc.gov.

The Director, Management Analysis and Services Office, has been delegated the authority to sign Federal Register notices pertaining to announcements of meetings and other committee management activities for both the Centers for Disease Control and Prevention and the Agency for Toxic Substances and Disease Registry.

Dated: October 27, 2000.
Carolyn J. Russell,
Director, Management Analysis and Services Office, Centers for Disease Control and Prevention.

[FR Doc. 00-27986 Filed 10-31-00; 8:45 am]

BILLING CODE 4163-18-P